DEPARTMENT OF TRANSPORTATION

Federal Aviation Administration

14 CFR Part 39

[Docket No. FAA-2015-0489; Directorate Identifier 2015-NM-013-AD; Amendment 39-18112; AD 2015-05-02]

RIN 2120-AA64

Airworthiness Directives; Airbus Airplanes

AGENCY: Federal Aviation Administration (FAA), Department of Transportation (DOT).

ACTION: Final rule; request for comments.

SUMMARY: We are superseding Airworthiness Directive (AD) 2014-23-15 for all Airbus Model A318, A319, A320, and A321 series airplanes. AD 2014-23-15 required revising the maintenance or inspection program to incorporate new, more restrictive airworthiness limitations. This new AD retains the requirement to revise the maintenance or inspection program and removes a conflicting requirement. This AD was prompted by a determination that certain limitations required by AD 2014-23-15 conflict with limitations required by another AD. We are issuing this AD to prevent fatigue cracking, accidental damage, or corrosion in principal structural elements, and possible failure of certain life limited parts, which could result in reduced structural integrity of the airplane.

DATES: This AD becomes effective March 23, 2015.

The Director of the Federal Register approved the incorporation by reference of certain publications listed in this AD as of March 2, 2015 (80 FR 3871, January 26, 2015).

The Director of the Federal Register approved the incorporation by reference of certain other publications listed in this AD as of August 22, 2011 (76 FR 42024, July 18, 2011).

The Director of the Federal Register approved the incorporation by reference of certain other publications listed in this AD as of November 7, 2007 (72 FR 56262, October 3, 2007).

We must receive comments on this AD by May 7, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0489; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

On December 23, 2014, we issued AD 2014-23-15, Amendment 39-18031 (80 FR 3871, January 26, 2015), to supersede AD 2011-14-06, Amendment 39-16741 (76 FR 42024, July 18, 2011). AD 2014-23-15 applied to all Airbus Model A318, A319, A320, and A321 series airplanes. AD 2014-23-15 was prompted by the determination that more restrictive airworthiness limitations were necessary. AD 2014-23-15 required revising the maintenance program to incorporate new, more restrictive airworthiness limitations. We issued AD 2014-23-15 to prevent fatigue cracking, accidental damage, or corrosion in principal structural elements, and possible failure of certain life limited parts, which could result in reduced structural integrity of the airplane.

AD 2014-23-15, Amendment 39-18031 (80 FR 3871, January 26, 2015), corresponds to Mandatory Continuing Airworthiness Information (MCAI) European Aviation Safety Agency Airworthiness Directives 2012-0008, dated January 16, 2012; and 2013-0147, dated July 16, 2013. You may examine the MCAI on the Internet at http://www.regulations.gov by searching for and locating Docket No. FAA-2015-0489.

Since we issued AD 2014-23-15, Amendment 39-18031 (80 FR 3871, January 26, 2015), we have determined that certain limitations required by AD 2014-23-15 conflict with limitations required by AD 2014-26-10, Amendment 39-18061 (80 FR 2813, January 21, 2015). Paragraph (n) of AD 2014-23-15 requires revising the maintenance or inspection program, as applicable, to incorporate the airworthiness limitations specified in paragraphs (n)(1), (n)(2), and (n)(3) of AD 2014-23-15. Paragraph (n)(3) of AD 2014-23-15 references Airbus A318/A319/A320/A321 ALS Part 4—Ageing Systems Maintenance, dated January 8, 2008. However, paragraph (g) of AD 2014-26-10 requires revising the maintenance or inspection program, as applicable, to incorporate Airbus A318/A319/A320/A321 Airworthiness Limitations Section, ALS Part 4, Aging Systems Maintenance, Revision 01, dated June 15, 2012.

Airbus A318/A319/A320/A321 Airworthiness Limitations Section, ALS Part 4, Aging Systems Maintenance, Revision 01, dated June 15, 2012, contains the most recent airworthiness limitations for ALS Part 4. Therefore, Airbus A318/A319/A320/A321 ALS Part 4—Ageing Systems Maintenance, dated January 8, 2008, should not be incorporated as required by AD 2014-23-15, Amendment 39-18031 (80 FR 3871, January 26, 2015). We have removed paragraph (n)(3) of AD 2014-23-15 from this AD. We have also revised the introductory text of paragraph (n) of this AD to refer only to paragraphs (n)(1) and (n)(2) of this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because operators must comply with the most recent airworthiness limitations, which are specified in Airbus A318/A319/A320/A321 ALS Part 4—Ageing Systems Maintenance, Revision 01, dated June 15, 2012, as required by AD 2014-26-10, Amendment 39-18061 (80 FR 2813, January 21, 2015). Since AD 2014-23-15, Amendment 39-18031 (80 FR 3871, January 26, 2015), requires an earlier version of the airworthiness limitations, i.e., Airbus A318/A319/A320/A321 ALS Part 4—Ageing Systems Maintenance, dated January 8, 2008, we must remove that requirement in order to avoid a conflict with certain requirements of AD 2014-26-10. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0489; Directorate Identifier 2015-NM-013-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 851 airplanes of U.S. registry.

The actions required by AD 2014-23-15, Amendment 39-18031 (80 FR 3871, January 26, 2015), and retained in this AD take about 2 work-hours per product, at an average labor rate of $85 per work-hour. Based on these figures, the estimated cost of the actions that were required by AD 2014-23-15 is $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2014-23-15, Amendment 39-18031 (80 FR 3871, January 26, 2015), and adding the following new AD:

2015-05-02 Airbus: Amendment 39-18112. Docket No. FAA-2015-0489; Directorate Identifier 2015-NM-013-AD.

(a) Effective Date

This AD becomes effective March 23, 2015.

(b) Affected ADs

This AD replaces AD 2014-23-15, Amendment 39-18031 (80 FR 3871, January 26, 2015).

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category.

(d) Subject

Air Transport Association (ATA) of America Code 05, Periodic Inspections.

(e) Reason

This AD was prompted by a determination that certain limitations required by AD 2014-23-15, Amendment 39-18031 (80 FR 3871, January 26, 2015), conflict with limitations required by AD 2014-26-10, Amendment 39-18061 (80 FR 2813, January 21, 2015). We are issuing this AD to prevent fatigue cracking, accidental damage, or corrosion in principal structural elements, and possible failure of certain life limited parts, which could result in reduced structural integrity of the airplane.

(f) Compliance

Comply with this AD within the compliance times specified, unless already done.

(g) Retained Revision of Airworthiness Limitations Section (ALS) to Incorporate Safe Life Airworthiness Limitation Items (ALIs), With No Changes

This paragraph restates the requirements of paragraph (g) of AD 2014-23-15, Amendment 39-18031 (80 FR 3871, January 26, 2015), with no changes. For Model A318-111 and -112 airplanes; Model A319-111, -112, -113, -114, -115, -131, -132, and -133 airplanes; Model A320-111, -211, -212, -214, -231, -232, and -233 airplanes; and Model A321-111, -112, -131, -211, -212, -213, -231, and -232 airplanes: Within 3 months after November 7, 2007 (the effective date of AD 2007-20-05, Amendment 39-15215 (72 FR 56262, October 3, 2007)), revise the ALS of the Instructions for Continued Airworthiness to incorporate Sub-part 1-2, Life Limits, and Sub-part 1-3, Demonstrated Fatigue Lives, of Airbus A318/A319/A320/A321 ALS Part 1—Safe Life Airworthiness Limitation Items, Revision 00, dated February 28, 2006. Accomplish the actions in Sub-part 1-2, Life Limits, and Sub-part 1-3, Demonstrated Fatigue Lives, of Airbus A318/A319/A320/A321 ALS Part 1—Safe Life Airworthiness Limitation Items, Revision 00, dated February 28, 2006, at the times specified in Sub-part 1-2, Life Limits, and Sub-part 1-3, Demonstrated Fatigue Lives, of Airbus A318/A319/A320/A321 ALS Part 1—Safe Life Airworthiness Limitation Items, dated February 28, 2006, except as provided by paragraph (i) of this AD. Accomplishing the actions required by paragraph (j) of this AD terminates the requirements of this paragraph.

(h) Retained Revision of ALS for Certain Airplanes To Incorporate Damage Tolerant ALIs, With No Changes

This paragraph restates certain provisions of paragraph (h) of AD 2014-23-15, Amendment 39-18031 (80 FR 3871, January 26, 2015), with no changes. For Model A318-111 and -112 airplanes; Model A319-111, -112, -113, -114, -115, -131, -132, and -133 airplanes; Model A320-111, -211, -212, -214, -231, -232, and -233 airplanes; and Model A321-111, -112, -131, -211, -212, -213, -231, and -232 airplanes; except Model A319 airplanes on which Airbus Modifications 28238, 28162, and 28342 have been incorporated in production: Within 14 days after November 7, 2007 (the effective date of AD 2007-20-05, Amendment 39-15215 (72 FR 56262, October 3, 2007)), revise the ALS of the Instructions for Continued Airworthiness to incorporate Airbus A318/A319/A320/A321 Airworthiness Limitation Items, Document AI/SE-M4/95A.0252/96, Issue 7, dated December 2005 (approved by the European Aviation Safety Agency (EASA) on February 7, 2006); Issue 08, dated March 2006 (approved by the EASA on January 4, 2007); or Issue 09, dated November 2006 (approved by the EASA on May 21, 2007). Accomplish the actions in Airbus A318/A319/A320/A321 Airworthiness Limitation Items, Document AI/SE-M4/95A.0252/96, Issue 7, dated December 2005; Issue 08, dated March 2006; or Issue 09, dated November 2006; at the times specified in Airbus A318/A319/A320/A321 Airworthiness Limitation Items, Document AI/SE-M4/95A.0252/96, Issue 7, dated December 2005; Issue 08, dated March 2006; or Issue 09, dated November 2006; as applicable; except as provided by paragraph (i) of this AD. Accomplishing the actions required by paragraph (j) or (n) of this AD, as applicable, terminates the requirements of this paragraph.

(i) Retained Grace Period for New or More Restrictive Actions, With No Changes

This paragraph restates certain provisions of paragraph (i) of AD 2014-23-15, Amendment 39-18031 (80 FR 3871, January 26, 2015), with no changes. For Model A318-111 and -112 airplanes; Model A319-111, -112, -113, -114, -115, -131, -132, and -133 airplanes; Model A320-111, -211, -212, -214, -231, -232, and -233 airplanes; and Model A321-111, -112, -131, -211, -212, -213, -231, and -232 airplanes: For any new or more restrictive life-limit introduced with Sub-part 1-2, Life Limits, and Sub-part 1-3, Demonstrated Fatigue Lives, of Airbus A318/A319/A320/A321 ALS Part 1—Safe Life Airworthiness Limitation Items, Revision 00, dated February 28, 2006, replace the part at the time specified in Sub-part 1-2, Life Limits, and Sub-part 1-3, Demonstrated Fatigue Lives, of Airbus A318/A319/A320/A321 ALS Part 1—Safe Life Airworthiness Limitation Items, Revision 00, dated February 28, 2006, or within 6 months after November 7, 2007 (the effective date of AD 2007-20-05, Amendment 39-15215 (72 FR 56262, October 3, 2007)), whichever is later. Accomplishing the actions required by paragraph (n) of this AD terminates the requirements of this paragraph.

(j) Retained Revision of ALS To Incorporate Damage-Tolerant ALIs, With No Changes

This paragraph restates the requirements of paragraph (j) of AD 2014-23-15, Amendment 39-18031 (80 FR 3871, January 26, 2015), with no changes. Within 9 months after August 22, 2011 (the effective date of AD 2011-14-06, Amendment 39-16741 (76 FR 42024, July 18, 2011)): Revise the maintenance program by incorporating all maintenance requirements and associated airworthiness limitations specified in the Airbus A318/A319/A320/A321 Airworthiness Limitation Items, Document AI/SE-M4/95A.0252/96, Issue 10, dated October 2009; or Issue 11, dated September 2010. Comply with all applicable maintenance requirements and associated airworthiness limitations included in Airbus A318/A319/A320/A321 Airworthiness Limitation Items, Document AI/SE-M4/95A.0252/96, Issue 10, dated October 2009; or Issue 11, dated September 2010; except as provided by paragraph (k) of this AD. Accomplishing the actions required by this paragraph terminates the requirements of paragraph (h) of this AD. Accomplishing the actions required by paragraph (n) of this AD terminates the requirements of this paragraph.

(k) Retained Special Compliance Times for Certain Tasks, With No Changes

This paragraph restates the requirements of paragraph (k) of AD 2014-23-15, Amendment 39-18031 (80 FR 3871, January 26, 2015), with no changes. For new and more restrictive tasks introduced with Airbus A318/A319/A320/A321 Airworthiness Limitation Items, Document AI/SE-M4/95A.0252/96, Issue 10, dated October 2009; or Issue 11, dated September 2010; as specified in table 1 to paragraph (k) of this AD: The initial compliance time for doing the tasks is specified in table 1 to paragraph (k) of this AD. Accomplishing the actions required by paragraph (n) of this AD terminates the requirements of this paragraph.

Table 1 to Paragraph (k) of this AD—Compliance Times for Tasks
Task | Applicability (as specified in the applicability column of the task) | Compliance time, whichever occurs later
545102-01-6 | Group 19-1A CFM, Group 19-1B CFM, and Model A320-200 airplanes with CFM Industrial (CFM)/International Aero Engine (IAE) engines | The threshold as defined in Airbus A318/A319/A320/A321 Airworthiness Limitation Items, Document AI/SE-M4/95A.0252/96, Issue 10, dated October 2009; or Issue 11, dated September 2010 | Within 2,000 flight cycles or 5,500 flight hours, after August 22, 2011 (the effective date of AD 2011-14-06, Amendment 39-16741 (76 FR 42024, July 18, 2011)), whichever occurs first.
545102-01-7 | Model A320-100 series airplanes | The threshold as defined in Airbus A318/A319/A320/A321 Airworthiness Limitation Items, Document AI/SE-M4/95A.0252/96, Issue 10, dated October 2009; or Issue 11, dated September 2010 | Within 2,000 flight cycles or 2,000 flight hours, after August 22, 2011 (the effective date of AD 2011-14-06, Amendment 39-16741 (76 FR 42024, July 18, 2011)), whichever occurs first.
572050-01-1 or alternative task 572050-02-1 | Group 19-1A and Group 19-1B airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-4 or alternative task 572050-02-4 | Model A320-200 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-5 or alternative task 572050-02-5 | Group 21-1A airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-7 or alternative task 572050-02-7 | Model A320-100 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
534132-01-1 | Model A320 PRE 30748 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318 (except (A318-121 and -122), Group 19-1A, Group 19-1B, and Model A320 and A321 series airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318-121 and -122 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)).

Note 1 to table 1 to paragraph (k) of this AD: ALI Task 572050 refers to the outer wing dry bay and is comprised of extracts from three ALI Tasks 572004, 572020, and 572053. The threshold of ALI Task 572050 for the whole dry bay area is that of the lowest threshold of the source ALI tasks, i.e., that of ALI Task 572053.

(l) Retained Limitation: No Alternative Life Limits, Inspections, or Inspection Intervals After Accomplishment of the Actions Specified in Paragraphs (g) and (h) of This AD, With No Changes

This paragraph restates the requirements of paragraph (l) of AD 2014-23-15, Amendment 39-18031 (80 FR 3871, January 26, 2015), with no changes. After the actions specified in paragraphs (g) and (h) of this AD have been accomplished, no alternative life limits, inspections, or inspection intervals may be used, except as provided by paragraphs (i) and (m) of this AD, and except as required by paragraphs (j) and (n) of this AD.

(m) Retained Limitation: No Alternative Life Limits, Inspections, or Inspection Intervals After Accomplishment of the Actions Specified in Paragraph (j) of This AD, With No Changes

This paragraph restates the requirements of paragraph (m) of AD 2014-23-15, Amendment 39-18031 (80 FR 3871, January 26, 2015), with no changes. After the actions specified in paragraph (j) of this AD have been accomplished, no alternative life limits, inspections, or inspection intervals may be used, except as required by paragraph (n) of this AD.

(n) Retained Maintenance or Inspection Program Revision, With Changes

This paragraph restates the requirements of paragraph (n) of AD 2014-23-15, Amendment 39-18031 (80 FR 3871, January 26, 2015), except that paragraph (n)(3) of AD 2014-23-15 is not retained. Within 30 days after March 2, 2015 (the effective date of AD 2014-23-15), revise the maintenance or inspection program, as applicable, to incorporate the ALIs specified in paragraphs (n)(1) and (n)(2) of this AD. The initial compliance time for the accomplishing the actions is at the applicable time specified in the ALIs specified in paragraphs (n)(1) and (n)(2) of this AD; or within 4 months after March 2, 2015 (the effective date of AD 2014-23-15); whichever occurs later. Accomplishing these actions terminates the requirements of paragraphs (g), (h), (i), (j), and (k) of this AD.

(1) Airbus A318/A319/A320/A321 ALS Part 1—Safe Life Airworthiness Limitation Items, Revision 02, dated May 13, 2011.

(2) Airbus A318/A319/A320/A321 ALS Part 2—Damage-Tolerant Airworthiness Limitation Items (DT ALI), Revision 02, dated May 28, 2013.

(o) Retained Limitation: No Alternative Actions, Intervals, and/or Critical Design Configuration Control Limitations (CDCCLs), With No Changes

This paragraph restates the requirements of paragraph (o) of AD 2014-23-15, Amendment 39-18031 (80 FR 3871, January 26, 2015), with no changes. After accomplishing the revision required by paragraph (n) of this AD, no alternative actions (e.g., inspections), intervals, and/or CDCCLs may be used unless the actions, intervals, and/or CDCCLs are approved as an alternative method of compliance (AMOC) in accordance with the procedures specified in paragraph (p)(1) of this AD.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2011-14-06, Amendment 39-16741 (76 FR 42024, July 18, 2011), are approved as AMOCs for the corresponding actions of this AD.

(2) Contacting the Manufacturer: As of March 2, 2015 (the effective date of AD 2014-23-15, Amendment 39-18031 (80 FR 3871, January 26, 2015)), for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(q) Related Information

Refer to Mandatory Continuing Airworthiness Information (MCAI) EASA Airworthiness Directives 2012-0008, dated January 16, 2012; and 2013-0147, dated July 16, 2013; for related information. This MCAI may be found in the AD docket on the Internet at http://www.regulations.gov by searching for and locating Docket No. FAA-2015-0489.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 2, 2015 (80 FR 3871, January 26, 2015).

(i) Airbus A318/A319/A320/A321 ALS Part 1—Safe Life Airworthiness Limitation Items, Revision 02, dated May 13, 2011. The revision level of this document is identified on only the title page and in the Record of Revisions. The revision date is not identified on the title page of this document.

(ii) Airbus A318/A319/A320/A321 ALS Part 2—Damage-Tolerant Airworthiness Limitation Items (DT ALI), Revision 02, dated May 28, 2013. The revision date of this document is not identified on the title page of this document.

(4) The following service information was approved for IBR on August 22, 2011 (76 FR 42024, July 18, 2011).

(i) Airbus A318/A319/A320/A321 Airworthiness Limitation Items, Document AI/SE-M4/95A.0252/96, Issue 10, dated October 2009. The revision level of this document is identified on only the title page and in the Record of Revisions.

(ii) Airbus A318/A319/A320/A321 Airworthiness Limitation Items, Document AI/SE-M4/95A.0252/96, Issue 11, dated September 2010. The revision level of this document is identified on only the title page and in the Record of Revisions.

(5) The following service information was approved for IBR on November 7, 2007 (72 FR 56262, October 3, 2007).

(i) Airbus A318/A319/A320/A321 ALS Part 1—Safe Life Airworthiness Limitation Items, Revision 00, dated February 28, 2006.

(ii) Airbus A318/A319/A320/A321 Airworthiness Limitation Items, Document AI/SE-M4/95A.0252/96, Issue 7, dated December 2005.

Note 2 to paragraph (r)(5)(ii) of this AD: This document contains the following errors: The Summary of Changes is comprised of 11 pages, which are all identified as Page 2—LEP of Section LEP instead of Page 1—SOC [through] Page 11—SOC of Section SOC; the List of Effective Pages only refers to Page 1—SOC for the Summary of Changes. The List of Effective Pages is comprised of two pages, and both of those pages are identified as Page 2—LEP. The first page of Section 2 is identified as Page 6 of Section 1 and is not referred to in the List of Effective Pages.

(iii) Airbus A318/A319/A320/A321 Airworthiness Limitation Items, Document AI/SE-M4/95A.0252/96, Issue 08, dated March 2006.

Note 3 to paragraph (r)(5)(iii) of this AD: This document contains the following errors: Pages 3—ROR and 2—SOC are not referred to in the List of Effective Pages. The List of Effective Pages is identified as Pages 1—SOC and 2—SOC, instead of 1—LEP and 2—LEP. The first page of Section 2 is identified as Page 6 of Section 1 and is not referred to in the List of Effective Pages.

(iv) Airbus A318/A319/A320/A321 Airworthiness Limitation Items, Document AI/SE-M4/95A.0252/96, Issue 09, dated November 2006.

(6) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(7) You may view this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on February 25, 2015.
Jeffrey E. Duven,
Manager, Transport Airplane Directorate, Aircraft Certification Service.

[FR Doc. 2015-05731 Filed 3-20-15; 8:45 am]

BILLING CODE 4910-13-P